DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://ofac.treasury.gov).

Notice of OFAC Actions

On December 16, 2019, OFAC determined that the property and interests in property subject to U.S. jurisdiction of the following persons are blocked under the relevant sanctions authority listed below.

Individuals:

1. LOMURO, Martin Elia (a.k.a. LOMORO, Martin Elia; a.k.a. LOMORO, Martin Elias), Juba, South Sudan; DOB 28 Dec 1957; citizen South Sudan; alt. citizen Sudan; Gender Male; Passport D00002571 (South Sudan); alt. Passport D00009058 (Sudan) (individual) [SOUTH SUDAN].

Designated pursuant to Section 1(a)(i)(C) of Executive Order 13664 of April 3, 2014, “Blocking Property of Certain Persons With Respect to South Sudan” 79 FR 19283 (April 7, 2014) (E.O. 13664) for being responsible for or complicit in, or having engaged in, directly or indirectly, in or in relation to South Sudan, actions or policies that have the purpose or effect of expanding or extending the conflict in South Sudan or obstructing reconciliation or peace talks or processes.

2. JUUK, Kuol Manyang (a.k.a. JUUK CHAW, Kuol Manyang), Juba, South Sudan; DOB 01 Jan 1945; POB Mathiang Village, South Sudan; nationality South Sudan; Gender Male; Passport D00002510 (South Sudan) (individual) [SOUTH SUDAN].

Designated pursuant to Section 1(a)(i)(C) of E.O. 13664 for being responsible for or complicit in, or having engaged in, directly or indirectly, in or in relation to South Sudan, actions or policies that have the purpose or effect of expanding or extending the conflict in South Sudan or obstructing reconciliation or peace talks or processes.

Dated: July 27, 2023.
Andrea M. Gacki,
Director, Office of Foreign Assets Control, U.S. Department of the Treasury.

[FR Doc. 2023-16279 Filed 7-31-23; 8:45 am]

BILLING CODE 4810-AL-P